GENERAL SERVICES ADMINISTRATION

48 CFR Part 513

[GSAR Amendment 2009-07; GSAR Case 2007-G502 (Change 35); Docket 2008-0007; Sequence 6]

RIN 3090-AI67

General Services Administration Acquisition Regulation; GSAR Case 2007-G502, Rewrite of GSAM Part 513, Simplified Acquisition Procedures

AGENCIES: General Services Administration (GSA), Office of the Chief Acquisition Officer.

ACTION: Final rule.

SUMMARY: The General Services Administration (GSA) is amending the General Services Administration Acquisition Regulation (GSAR) by revising and updating the agency's implementation of Federal Acquisition Regulation (FAR) Part 13, Simplified Acquisition Procedures.

DATES: Effective Date: May 28, 2009.

FOR FURTHER INFORMATION CONTACT: For clarification of content, contact Ms. Meredith Murphy, Procurement Analyst, at (202) 208-6925, or by email at meredith.murphy@gsa.gov. For information pertaining to status or publication schedules, contact the Regulatory Secretariat (VPR), Room 4041, 1800 F Street, NW, Washington, DC, 20405, (202) 501-4755. Please cite Amendment 2009-0007, GSAR case 2007-G502 (Change 35).

SUPPLEMENTARY INFORMATION:

A. Background

This is part of the GSAM Rewrite Project, initiated in 2006 to revise, update, and simplify the GSA Acquisition Manual (GSAM). An Advance Notice of Proposed Rulemaking (ANPR), with a request for comments, was published in the Federal Register at 71 FR 7910 on February 15, 2006. No public comments were received in response to GSAM Part 513. Prior to publication of the ANPR, internal comments were incorporated. The current GSAM Part 513 implements three of the FAR Part 13 subparts and the policy at GSAM 513.003. There are no clauses associated with GSAM Part 513, and no supplementary subparts. The proposed rule deleted the policy statement at GSAM 513.003 and certain GSA-specific forms that are redundant to standard or optional forms in the FAR, as well as the GSAM text associated with them.

The GSA review team noted that the GSAM Part 513 material currently coded as regulatory, i.e., GSAR, does not, in fact, contain regulatory material. The GSAR 513.302-70, 513.303-3(a) and (b), and 513.307 are considered policy, and this material has been converted to GSAM from GSAR. This change is shown by lining out the current GSAR text. The effect is to remove all of the GSAM Part 513 GSAR material. However, this former GSAR material has been retained, with some modifications, in the GSAM, which is also available to the public on the GSAM web site.

A notice of proposed rulemaking was published in the Federal Register at 73 FR 44955 on August 1, 2008. The public comment period for the proposed rule closed September 30, 2008. No comments were received. Therefore, the proposed rule is being converted to a final rule without change.

This is not a significant regulatory action and, therefore, was not subject to review under Section 6(b) of Executive Order 12866, Regulatory Planning and Review, dated September 30, 1993. This rule is not a major rule under 5 U.S.C. 804.

B. Regulatory Flexibility Act

The General Services Administration certifies that this final rule will not have a significant economic impact on a substantial number of small entities within the meaning of the Regulatory Flexibility Act, 5 U.S.C. 601, et seq., because the changes are primarily editorial in nature. An Initial Regulatory Flexibility Analysis has, therefore, not been performed. No comments were received in response to the shift from GSAR to GSAM.

C. Paperwork Reduction Act

The Paperwork Reduction Act does not apply because the changes to the GSAR do not impose recordkeeping or information collection requirements, or otherwise collect information from offerors, contractors, or members of the public that require approval of the Office of Management and Budget under 44 U.S.C. Chapter 35, et seq.

List of Subjects in 48 CFR Part 513

Government procurement.

Dated: May 14, 2009.
David A. Drabkin,
Acting Chief Acquisition Officer, Office of the Chief Acquisition Officer, General Services Administration.

Therefore, GSA amends 48 CFR part 513 as set forth below:

1. The authority citation for 48 CFR part 513 is revised to read as follows:

Authority: 40 U.S.C. 121(c).

PART 513 [Removed and Reserved]

2. Remove and reserve Part 513 consisting of Subpart 513.3 and sections 513.302, 513.302-70, 513.303, 513.303-3, and 513.307.

[FR Doc. E9-12375 Filed 5-27-09; 8:45 am]

BILLING CODE 6820-61-S